SECURITIES AND EXCHANGE COMMISSION

[Release No. 34-96335; File No. SR-CboeBZX-2022-043]

Self-Regulatory Organizations; Cboe BZX Exchange, Inc.; Notice of Withdrawal of a Proposed Rule Change To Amend Exchange Rule 14.11(d) To Accommodate Exchange Listing and Trading of Options-Linked Securities

November 16, 2022.

On August 18, 2022, Cboe BZX Exchange, Inc. (“BZX” or “Exchange”) filed with the Securities and Exchange Commission (“Commission”), pursuant to Section 19(b)(1) of the Securities Exchange Act of 1934 (“Act”) ¹ and Rule 19b-4 thereunder,² a proposed rule change to amend BZX Rule 14.11(d) to accommodate the listing and trading of Options-Linked Securities.

¹ 15 U.S.C. 78s(b)(1).

² 17 CFR 240.19b-4.

The proposed rule change was published for comment in the Federal Register on September 8, 2022.³ On October 14, 2022, pursuant to Section 19(b)(2) of the Act,⁴ the Commission designated a longer period within which to approve the proposed rule change, disapprove the proposed rule change, or institute proceedings to determine whether to disapprove the proposed rule change.⁵ The Commission received no comment letters on the proposed rule change.

³ See Securities Exchange Act Release No. 95655 (Sept. 1, 2022), 87 FR 55068.

⁴ 15 U.S.C. 78s(b)(2).

⁵ See Securities Exchange Act Release No. 96077, 87 FR 63830 (Oct. 20, 2022).

On November 10, 2022, the Exchange withdrew the proposed rule change (SR-CboeBZX-2022-043).

For the Commission, by the Division of Trading and Markets, pursuant to delegated authority.⁶
⁶ 17 CFR 200.30-3(a)(12).
Sherry R. Haywood,
Assistant Secretary.

[FR Doc. 2022-25359 Filed 11-21-22; 8:45 am]

BILLING CODE 8011-01-P